DEPARTMENT OF THE INTERIOR

Bureau of Land Management

[WO-320-1330-PB-24 1A]

Extension of Approved Information Collection, OMB Control Number 1004-0121

AGENCY: Bureau of Land Management, Interior.

ACTION: Notice and request for comments.

SUMMARY: In accordance with the Paperwork Reduction Act of 1995, the Bureau of Land Management (BLM) requests the Office of Management and Budget (OMB) to extend an existing approval to collect information from applicants to lease and develop solid minerals other than coal and oil shade. BLM uses the information to determine whether an applicant, permittee, or lessee is qualified to hold an interest under the terms of the implementing regulations at 43 CFR part 3500.

DATES: You must submit your comments to BLM at the address below on or before June 20, 2005.

ADDRESSES: You may mail comments to: Regulatory Affairs Group (WO-630), Eastern States Office, 7450 Boston Blvd., Springfield, Virginia 22153.

You may send comments via Internet to: WOComment@blm.gov. Please include “ATTN: 1004-0121” and your name and address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Nick Rieger, Solid Minerals Group, on (202) 452-5149 (Commercial or FTS). Persons who use the telecommunication device for the deaf (TDD) may call the Federal Information Relay Service (FIRS) on 1-800-877-8330, 24 hours a day, seven days a week, to contact Mr. Rieger.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The regulations at 43 CFR part 3500 implement numerous statutes including:

(1) The Mineral Leasing Act of 1920 (30 U.S.C. 181 et seq.);

(2) The Mineral Leasing Act of 1947 (30 U.S.C. 351-359);

(3) Section 402 of Reorganization Plan No. 3 of 1946 (5 U.S.C. Appendix);

(4) The Multiple Mineral Development Act of 1954 (30 U.S.C. 521-531);

(5) The National Environmental Policy Act of 1976 (42 U.S.C. 4321 et seq.). The implementing regulations (43 CFR Part 3500) outline procedures for members of the public to submit applications, offers, statements, petitions, and various forms. BLM uses Forms 3510-1, 3520-7, 3510-2, 3504-1, 3504-3, and 3504-4 to collect the information to determine whether an applicant qualifies to hold a lease to obtain a benefit under the terms of MLA, its subsequent amendments, related statutes, and the regulations. The affect public consists of all present and prospective holders of Federal solid mineral leases other than coal or oil shale, prospecting permits, use permits, and exploration licenses.

Breakdown of information Collections and Total Hours
Type of info collection | No. of responses | Hours per response | Total hours
Prospecting Permit | 22 | 1 | 22
Exploration Plan for Prospecting Permit | 19 | 80 | 1,520
Prospecting Permit Extension | 5 | 1 | 5
Preference Right Lease | 2 | 100 | 200
Competitive Lease Bid | 5 | 40 | 200
Fringe Acreage Lease or Lease Modification | 5 | 40 | 200
Assignment or Sublease | 38 | 2 | 76
Lease Renewals or Adjustments | 14 | 1 | 14
Use Permit | 1 | 1 | 1
Exploration License | 1 | 3 | 3
Exploration Plan for Exploration License | 1 | 80 | 80
Development Contract | 1 | 1 | 1
Bond | 145 | 4 | 580
Mine Plan | 5 | 150 | 750
Total | 264 |  | 3,652

Based on BLM's experience administering the leasing program, we estimate the public reporting burden as indicated in the above chart to complete the applications, petitions, offers, and statements as required. BLM estimates that we receive 264 filings annually, with a total annual burden of 3,652 hours. The respondents vary from individuals to small businesses and major corporations.

Any member of the public may request and obtain, without a charge, a copy of BLM Forms 3510-1, 3520-7, 3501-2, 3504-1, 3504-3, and 3504-4 by contacting the person identified under FOR FURTHER INFORMATION CONTACT.

BLM will summarize all responses to this notice and include them in the request for OMB approval. All comments will become a matter of a public record.

Dated: April 15, 2005.
Ian Senio,
Bureau of Land Management, Information Collection Clearance Officer.

[FR Doc. 05-7969 Filed 4-20-05; 8:45 am]

BILLING CODE 4310-84-M